DEPARTMENT OF COMMERCE

Bureau of Industry and Security

[Docket No. 02-BXA-09]

Action Affecting Export Privileges; FRANK CURIC, In the Matter of: Frank Curic, Bisce Polje, BB, 88104 Mostar, Bosnia Herzegovina, Respondent; Order

The Bureau of Industry and Security, United States Department of Commerce (“BIS”), having initiated an administrative proceeding against Frank Curic, (“Curic”), pursuant to section 13(c) of the Export Administration Act of 1979, as amended (50 U.S.C. app. §§ 2401-2420 (2000)) (“Act”),¹and the Export Administration Regulations (currently codified at 15 CFR parts 730-774 (2002)) (“Regulations”), ² based on the charging letter issued to Curic that alleged that Curic violated the Regulations on three occasions. Specially, the charges are:

¹ From August 21, 1994 through November 12, 2000, the Act was in lapse. During that period, the President, through Executive Order 12924, which has been extended by successive Presidential Notices, the last of which was issued on August 3, 2000 (3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 17, 2001 (3 CFR., 2001 Comp., 783 (2002)), as extended by the Notice of August 14, 2002 (67 FR 53721 (August 16, 2002)), has continued the Regulations in effect under IEEPA.

² The Regulations governing the violations at issue are found in the 2000 version of the Code of Federal Regulations (15 CFR parts 730-774 (2000)) and they are substantially the same as the 2002 version of the Regulations which govern the procedural aspects of this case.

1. One Violation of 15 CFR 764.2(c)—Attempting To Export a Shotgun Without the Required License: On or about July 31, 2000, Curic attempted to export a Mossberg shotgun with a barrel length of at least 18 inches but less than 24 inches (the “shotgun”), an item subject to the Regulations and covered by export control classification number 0A984, from the United States to Bosnia and Herzegovina without obtaining an export license from the Department of Commerce as required by Section 742.7(a) of the Regulations.

2. One violation of 15 CFR 764.2(e)—Concealing a Shotgun with Knowledge that a Violation of the Regulations Was Intended to Occur: In connection with the attempted export referenced above, Curic concealed the shotgun knowing that the shotgun would be exported from the United States in violation of the Regulations. Pursuant to section 742.7(a) of the Regulations, an export license was required to export the shotgun, an item subject to the Regulations and covered by export control classification number 0A984, from the United States to Bosnia and Herzegovina. Curic knew that an export license was required from the Department of Commerce to export the shotgun to Bosnia and Herzegovina. However, Curic did not obtain a license to export the item.

3. One Violation of 15 CFR 764.2(g)(1)—Making a Material Misrepresentation on a Shipper's Export Declaration: In connection with the attempted export referenced above, Curic, through a freight forwarder, made a material misrepresentation to the United States Government by filing or causing to be filed a Shipper's Export Declaration ³ that stated falsely that Curic's vehicle would be “unpacked,” i.e., would not contain any personal belongings or other effects, when it was exported from the United States to Bosnia and Herzegovina and that license exception BAG authorized the export. In response to Curic's statement that his vehicle would be unpacked, the freight forwarder prepared and filed a Shipper's Export Declaration that stated “1 unpacked Lincoln Town Car” was being exported to Bosnia and Herzegovina under license exception BAG. These statements were false as Curic packed this vehicle with his belongings, including the shotgun, before attempting to export it. An export license was required for the export of the shotgun to Bosnia and Herzegovina.

³ A Shipper's Export Declaration is an export control document as defined in Part 772 of the Regulations.

BIS and Curic having entered into a Settlement Agreement pursuant to section 766.18(b) of the Regulations whereby they agreed to settle this matter in accordance with the terms and conditions set forth therein, and the terms of the Settlement Agreement having been approved by me;

It is therefore Ordered

First, that for a period of three years from the date of this Order, Curic, and when acting for or on behalf of Curic, his representatives, agents, assigns or employees (“denied person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the regulations, or in any other activity subject to the Regulations; or

C. Benefitting in any way from any transaction involving any item exported or to be exported from the United States that is subject to the Regulations, or in any other activity subject to the Regulations.

Second, that no person may, directly or indirectly, do any of the following:

A. Export or reexport to or on behalf of the denied person any item subject to the Regulations;

B. Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, exported from the United States; or

E. Engage in any transaction to service any item subject to the Regulations that has been or will be exported from the United States and which is owned, possessed or controlled by the denied person, or service any item, of whatever origin, that is owned, possessed or controlled by the denied person if such service involves the use of any item subject to the Regulations that has been or will be exported from the United States. For purposes of this paragraph, servicing means installation, maintenance, repair, modification or testing.

Third, that after notice and opportunity for comment as provided in Section 766.23 of the Regulations, any person, firm, corporation, or business organization related to Curic by affiliation, ownership, control, or position of responsibility in the conduct of trade or related services may also be subject to the provisions of this Order.

Fourth, that this Order does not prohibit any export, reexport, or other transaction subject to the Regulations where the only items involved that are subject to the Regulations are the foreign-produced direct product of U.S.-origin technology.

Fifth, that a copy of this Order shall be delivered to the United States Coast Guard ALJ Docketing Center, 40 Gay Street, Baltimore, Maryland 21202-4022, notifying that office that this case is withdrawn from adjudication, as provided by Section 766.18 of the Regulations.

Sixth, that the charging letter, the Settlement Agreement, and this Order shall be made available to the public.

This Order, which constitutes the final agency action in this matter, is effective upon the date of its publication in the Federal Register.

Entered this 16th day of April 2003.
Dexter M. Price,
Acting Assistant Secretary of Commerce for Export Enforcement.

[FR Doc. 03-10218 Filed 4-24-03; 8:45 am]

BILLING CODE 3510-DT-M